DEPARTMENT OF COMMERCE

National Telecommunications and Information Administration

[Docket No. 040127027-4027-01]

United States Spectrum Management Policy For the 21st Century

AGENCY: National Telecommunications and Information Administration, U.S. Department of Commerce

ACTION: Notice of Inquiry

SUMMARY: The United States Department of Commerce's National Telecommunications and Information Administration (NTIA) seeks comments on policy reforms relative to the management of the natural resource known as the “radio frequency spectrum.” In the Executive Memorandum on Spectrum Policy in the 21st Century signed by President George W. Bush on May 29, 2003, the Administration announced its commitment to develop and implement a modernized United States spectrum policy.¹ Pursuant to this commitment, the Secretary of Commerce is conducting a comprehensive review to develop recommendations for improving the United States' spectrum management policies regarding the organization, processes, and procedures affecting Federal government, State, local and private sector spectrum use.

¹ Presidential Memorandum on Spectrum Policy for the 21st Century, 69 FR 1568 (Jan. 9, 2004).

DATES: Comments are requested on or before March 18, 2004.

ADDRESSES: Written comments may be submitted by mail to Norbert Schroeder, Strategic Spectrum Planning and Reform Division, National Telecommunications and Information Administration, 1401 Constitution Avenue, NW., Room 4082, Washington, DC 20230. Paper submissions should include a three and one-half inch computer diskette in HTML, ASCII, Word or WordPerfect format (please specify version). Diskettes should be labeled with the name and organizational affiliation of the filer, and the name of the word processing program used to create the document. Alternatively, comments may be submitted electronically to spectrumreform@ntia.doc.gov. Comments provided via electronic mail should also be submitted in one or more of the formats specified above. Comments will be posted on NTIA's website at http://spectrumreform.ntia.doc.gov.

FOR FURTHER INFORMATION CONTACT: For questions about this Notice, contact: Norbert Schroeder, National Telecommunications and Information Administration, U.S. Department of Commerce, 1401 Constitution Avenue, NW., Room 4082, Washington, DC 20230; telephone: (202) 482-6207; or e-mail: nschroeder@ntia.doc.gov; or Derrick Owens, National Telecommunications and Information Administration, U.S. Department of Commerce, 1401 Constitution Avenue, NW. , Room 4099, Washington, DC 20230; telephone: (202) 482-1850; or email: dowens@ntia.doc.gov.

SUPPLEMENTARY INFORMATION: Background: On May 29, 2003, President George W. Bush signed an Executive Memorandum announcing the Administration's commitment to develop and implement a comprehensive United States Spectrum Policy for the 21st Century that will: (a) Foster economic growth; (b) ensure national and homeland security; (c) maintain U.S. global leadership in communications technology development and services; and (d) satisfy other vital U.S. needs in areas such as public safety, scientific research, Federal transportation infrastructure, and law enforcement.

To promote these goals, the Executive Memorandum directed the Department of Commerce to prepare legislative and other recommendations to:

(1) Facilitate a modernized and improved spectrum management system;

(2) Facilitate policy changes to create incentives for more efficient and beneficial use of the spectrum and to provide a higher degree of predictability and certainty in the spectrum management process as it applies to incumbent users;

(3) Develop policy tools to streamline the deployment of new and expanded services and technologies, while preserving national and homeland security, and public safety, and encouraging scientific research; and

(4) Develop means to address the critical spectrum needs of national security, homeland security, public safety, Federal transportation infrastructure, and science.

To develop a complete record as it prepares these reports, NTIA seeks comments on the state of the U.S. spectrum management policy.

Request for Comments

The questions below are only intended to assist in identifying the issues and should not be construed as a limitation on comments that may be submitted. If policy reforms requiring enactment of legislation are recommended, please provide the nature and scope thereof. When references are made to studies, research, and other empirical data that are not widely published, please provides copies of the referenced materials with the submitted comments.

First Objective: Facilitate a Modernized and Improved Spectrum Management System

Federal Government Organizational Issues

The spectrum management activities in the Federal government are conducted primarily by NTIA, the Federal Communications Commission (FCC), and the Department of State. The NTIA manages the spectrum used by Federal government agencies, the FCC manages the spectrum used by non-Federal entities, and the Department of State is responsible for coordinating United States participation in international fora where spectrum management issues are addressed. The policies for seeking authorization from the NTIA are found in the “Manual of Regulations and Procedures for Federal Radio Frequency Management.”² The policies for seeking authorization from the FCC are found in Title 47 of the Code of Federal Regulations.³ In cases where authorization is sought for the use of a portion of spectrum for which the NTIA and the FCC have shared spectrum management responsibility, the prospective spectrum user is required to satisfy both sets of policies.

² Manual of Regulations and Procedures for Federal Radio Frequency Management, National Telecommunications and Information Administration, U.S. Department of Commerce, Chapters 4, 8 and 9 (2003), available at http://www.ntia.doc.gov/osmhome/redbook/redbook.html. See also, 47 CFR 300.1 (2002).

³ 47 CFR part 1 (2002).

1. Does the bifurcated spectrum management system currently used by the United States present obstacles to the most efficient and benefical use of the spectrum? Should the Federal government consider establishing a centralized organization to perform these functions?

2. What are the benefits and risks of combining the common administrative processing functions performed by the NTIA and the FCC?

Spectrum Allocation Issues

3. Published versions of the United States Table of Frequency Allocations compiled by NTIA⁴ and FCC⁵ differ in several ways (e.g., different priorities, different document printing schedules, etc.). NTIA seeks comments on the feasibility, benefits, and risks of replacing the existing tables with a single national policy document.

⁴ See id.

⁵ 47 CFR 2.106 (2002).

4. The table of allocations divides the spectrum into various categories: government exclusive, non-government exclusive, and shared. Are the current exclusive allocations justified?

Frequency Coordination

5. The FCC has delegated specific portions of its spectrum management authority to certified frequency advisory committees that are authorized to receive applications for spectrum uses from a selected group of users, coordinate the applications among the affected incumbent spectrum users, and submit the coordinated applications to the FCC for approval. NTIA seeks your comments on improving this process or expanding this management concept to other bands.

State, Local, and Tribal Government Issues

6. Currently the responsibility for managing the spectrum used by State, local, and tribal governments rests with the FCC. Because of the need for Federal government agencies to work closely with State, local and tribal governments located near Federal installations throughout the States, and because of the need for close coordination among the homeland security activities of Federal, State, local, and tribal governments, the interoperability of the radiocommunication facilities used by all of these agencies is essential.

a. What are the barriers to achieving interoperability among the different levels of government entities?

b. What would be necessary to achieve improved standardization of the radiocommunication facilities used by State, local, and tribal governments to enhance interoperability among the assets used by these entities?

c. What, if any, technical assistance is most needed by State, local, and tribal governments for radiocommunication facilities planning for effective and efficient use of the spectrum?

International Issues

7. The Department of State serves as the lead negotiator of the United States in making arrangements relative to spectrum use: (1) with neighboring foreign administrations regarding operations of radio systems near borders; and (2) with other countries globally or regionally in regards to such areas as regulations, accommodations of new technologies, standards, and revised and new allocations via meetings with international telecommunications bodies such as the International Telecommunication Union (ITU) and the Inter-American Telecommunications Commission (CITEL). The FCC, NTIA, and the International Telecommunication Advisory Committee-Radiocommunication Activity (ITAC-R) have roles in these preparations and negotiations. NTIA seeks comment on methods to improve the effectiveness and efficiency of the U.S. national process (preparation through implementation) that results in these arrangements.

Planning

8. Should the U.S. spectrum management system include long-range planning activities by NTIA, the FCC, and other Federal agencies?

a. What should be the nature, scope, and objective of these planning activities?

b. What should be the nature and scope of the public involvement in these planning activities?

c. What approaches can be used to identify and project the future spectrum requirements of the Federal agencies?

d. What approaches can be used to identify and project the future spectrum requirements of non-Federal entities?

e. What approaches, including legislative provisions, are recommended for ensuring the availability of adequate resources in the Federal agencies for performing such planning activities?

9. NTIA seeks comment on whether the current long-range spectrum-planning mechanisms in place at the NTIA, the FCC, and the ITU provide appropriate assurances to consumers, service providers, and government institutions that sufficient spectrum will be available to satisfy projected requirements.

Second Objective: Facilitate Policy Changes to Create Incentives for Achieving More Efficient and Beneficial Use of the Spectrum, and Provide a Higher Degree of Predictability and Certainty in the Spectrum Management Process as It Applies to Incumbent Users

10. Efficiency has been defined in a number of ways, e.g., technical efficiency (bandwidth, frequency reuse, geographical coverage, etc.), economic efficiency (revenue, profit, added value, etc.), and functional efficiency (reliability, quality, ease of use, etc). Depending on the balance of these types of efficiency metrics, there could be different benefits to users, taxpayers, various stakeholders, the economy, and society. NTIA seeks comment on the definitions of these terms and how they may be used in developing spectrum policy.

11. Considering these economic, technical, and functional metrics, how should the term “spectrum efficiency” be defined to provide useful tools in managing the spectrum resource? What metrics can be used to apply the definition?

12. What incentives or changes in policy should be imposed on the Federal and private sector spectrum users or potential users to use the spectrum more effectively and efficiently?

13. What mechanisms could be established for promoting improved spectrum sharing between Federal agencies and the private sector?

14. How could the general spectrum management oversight of Federal users be improved?

15. Should the fee structure and budget processes for Federal users be reformed to reflect opportunity cost of the spectrum resource?

16. What should NTIA and the Federal agencies do with temporarily unused Federal spectrum?

17. Should NTIA establish a pilot secondary lease program whereby the Federal government can lease temporary and/or preemptable access to Federal government spectrum to non-government users?

18. What would be the commercial demand for temporary and/or preemptable usage rights or spectrum commons? What would be the demand by state and local government users of such a resource?

19. Are there commercial applications for short term spectrum rights, such as overnight data caching, special event, or seasonal use?

20. Are there liability or technological issues that arise if spectrum leases are to be preemptable in an emergency by a governmental agency?

21. What issues arise for appropriators and Federal budget managers if user fees or leases are implemented?

22. What improvements are recommended to the Office of Management and Budget's budget development process and what guidance should be provided to the Federal agencies in performing cost-benefit analyses of planned spectrum use to increase spectrum sharing among Federal agencies?

23. How could NTIA best facilitate spectrum sharing among Federal agencies?

24. Discussions on efficient use of the spectrum may focus on receiver performance standards. Most spectrum uses involve at least one electromagnetic emission and at least one receiver/detector to recover the information contained in the emission. In activities such as radio astronomy and a variety of “electromagnetic” sensing activities (such as those of the National Aeronautics and Space Administration and Department of Commerce), only the receivers can be controlled because the emissions come from nature or space. In most other spectrum uses, the opportunity exists for controlling, through design, the operational performance of both the receiver and the emitter. NTIA seeks comments on how receiver performance standards can be employed to increase spectrum efficiency and minimize harmful interference.

Third Objective: Develop Policy Tools To Streamline the Deployment of New and Expanded Services and Technologies, While Preserving National and Homeland Security and Public Safety, and Encouraging Scientific Research

25. What objective principles, standards, or processes are appropriate to timely evaluate proposed spectrum uses for new technologies and services to determine whether the limited spectrum resource should be used for implementing a proposed spectrum use?

26. What are the benefits and risks of establishing an organizational mechanism for designating, funding, and operating test platforms to be used in performing reasonably large-scale operational testing of proposed new and expanded radiocommunication services and technologies?

a. Discuss whether the establishment of such an organizational mechanism may expedite the implementation of new services and technology.

b. Would such a mechanism reduce the risk of causing unacceptable interference to incumbents? Are there other approaches to determine the potential impact that new and expanded radiocommunication services and technologies may have on incumbent users?

27. Should one, or more, Federal laboratories be designated and certified to perform this testing?

28. Should a mechanism be established for certifying both Federal and non-Federal laboratories to perform this testing?

29. Should a mechanism be established to authenticate or certify the interference protection required by incumbent spectrum users? If so, provide recommendations for an approach that would establish appropriate interference protection criteria.

30. Since the implementation of some new and expanded radiocommunication services and technologies may require the reallocation of spectrum, discuss whether and the extent to which auctions for spectrum licenses in given frequencies or bands of frequencies could constrain future reallocations of those frequency bands.

Fourth Objective: Develop Means To Address the Critical Spectrum Needs of National Security and Homeland Security, Public Safety, Federal Transportation Infrastructure, and Science

31. Are the current U.S. requirements for spectrum use (domestic or international) being satisfied?

a. If not, identify those requirements that are not satisfied.

b. Discuss whether actions consistent with existing policies by the spectrum managers could be taken to satisfy the unmet requirements.

c. Are there policies that contribute to or cause these requirements to remain unsatisfied?

d. NTIA seeks comment on policy reforms that may facilitate satisfying these requirements.

32. Some requirements for spectrum use by Federal government agencies and non-Federal entities are critical only during emergencies or while specific mission operations are performed. These communications channels remain unused during non-emergency periods. NTIA seeks comment on the feasibility and advisability of establishing a spectrum-sharing arrangement in which both Federal users and non-Federal users could be assured “priority access” to satisfy their critical spectrum requirements during emergencies or specific mission operations.

33. What policy reforms are needed to satisfy spectrum access, interoperability, and interference protection requirements?

34. The terrorists' attacks against the United States on September 11, 2001, raised serious national concerns regarding the ability of Federal, State, local, and tribal entities to maintain continuity of their critical governmental activities during future attacks as well as during unexpected natural disasters.

a. What identifiable problems or deficiencies exist in accessing adequate spectrum resources for governmental or municipal continuity of operations plans under current spectrum policies?

b. What is the proper Federal role in developing and coordinating (between the Federal, State, local, and tribal entities) the spectrum management elements relative to government continuity of operation plans?

c. What approaches could be used to improve planning at the State, local, and tribal level to ensure that adequate access to spectrum is available to first responders to an emergency situation?

35. The FCC has granted waivers authorizing certain non-public safety and public safety entities to jointly build and operate systems that operate on both private land mobile and public safety frequency allocations. In combining physical resources and spectrum, both the public safety and non-public safety entities realize economic and spectrum efficiencies. NTIA seeks comment on whether Federal government and non-Federal government systems could be similarly combined as a way to conserve physical and spectrum resources.

Dated: January 28, 2004.
Kathy D. Smith,
Chief Counsel, National Telecommunications and Information Administration.

[FR Doc. 04-2054 Filed 1-30-04; 8:45 am]

BILLING CODE 3510-60-S